EXPORT-IMPORT BANK OF THE UNITED STATES

Notice of Open Meeting of the Advisory Committee of the Export-Import Bank of the United States (Ex-Im Bank)

SUMMARY: The Advisory Committee was established by Public Law 98-181, November 30, 1983, to advise the Export-Import Bank on its programs and to provide comments for inclusion in the reports of the Export-Import Bank of the United States to Congress.

Time and Place: Friday, March 12, 2010 beginning at 2:30 p.m. The meeting will be held in the Palladian Room at the Onmi Shoreham Hotel, 2500 Calvert Street, NW., Washington, DC 20008.

Agenda: Agenda items include a briefing on the status of the 2010 Advisory Committee's Subcommittees and the challenges for 2010.

Public Participation: The meeting will be open to public participation, and the last 10 minutes will be set aside for oral questions or comments. Members of the public may also file written statement(s) before or after the meeting. If any person wishes auxiliary aids (such as a sign language interpreter) or other special accommodations, please contact, prior to March 3, 2010, Susan Houser, Room 1273, 811 Vermont Avenue, NW., Washington, DC 20571, Voice: (202) 565-3232 or TDD (202) 565-3377.

FOR FURTHER INFORMATION CONTACT: For further information, contact Susan Houser, Room 1273, 811 Vermont Ave., NW., Washington, DC 20571, (202) 565-3232.

Jonathan Cordone,
Senior Vice President and General Counsel.

[FR Doc. 2010-4208 Filed 3-1-10; 8:45 am]

BILLING CODE 6690-01-M